DEPARTMENT OF HEALTH AND HUMAN SERVICES

Administration for Children and Families

Submission for OMB Review; Comment Request

Title: Assets for Independence (AFI) Program Evaluation.

OMB No.: New Collection.

Description: The U.S. Department of Health and Human Services, Administration for Children and Families (ACF) is proposing a data collection activity as part of an experimental evaluation of the Assets for Independence (AFI) Program. The purpose of this study is to assess the impact of participation in AFI-funded individual development account (IDA) projects on the savings, asset purchases, and economic well-being of low-income individuals and families. The two primary research questions are:

• What is the impact of AFI project participation on short-term outcomes such as savings, asset purchases, and avoidance of material hardship?

• How do specific AFI project design features affect short-term participant outcomes?

While some evaluations suggest that IDAs help low-income families save, rigorous experimental research is limited. Few studies have focused on AFI-funded IDAs, and few have tested alternative design features.

This evaluation—the first experimental evaluation of IDA projects operating under the Assets for Independence Act—will contribute importantly to understanding the effects of IDA project participation on project participants, particularly effects that occur within the first 12 months of participation, and how these short-term effects differ under alternative project designs. The evaluation will be conducted in two sites, with the random assignment of AFI-eligible cases to program and control groups. The evaluation consists of both an impact study and an implementation study. Data collection activities will span a three-year period.

Respondents

Respondent groups will include: (1) AFI-eligible participants and (2) AFI project administrators and staff members of the participating AFT grantees and their partnering organizations.

Annual Burden Estimates
Instrument | Number of respondent | Number of response per respondents | Average burden hours per response | Estimated burden hours
AFI Baseline Questionnaire | 567 | 1 | .50 | 284
AFT Follow-Up Questionnaire | 482 | 1 | .50 | 241
AFT Implementation Interview Instrument | 10 | 1 | 1.00 | 10
Estimated Total Annual Burden Hours: |  |  |  | 535

Additional Information

Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Dated: April 30, 2012.
Steven M. Hanmer,
OPRE Reports Clearance Officer.

[FR Doc. 2012-10735 Filed 5-4-12; 8:45 am]

BILLING CODE 4184-24-M